DEPARTMENT OF COMMERCE

National Oceanic and Atmospheric Administration

Agency Information Collection Activities; Submission to the Office of Management and Budget (OMB) for Review and Approval; Comment Request; Deep Seabed Mining Exploration Licenses

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 15, 2024.

ADDRESSES: Interested persons are invited to submit written comments to Adrienne Thomas, NOAA PRA Officer, at NOAA.PRA@noaa.gov. Please reference OMB Control Number 0648-0145 in the subject line of your comments. Do not submit Confidential Business Information or otherwise sensitive or protected information.

FOR FURTHER INFORMATION CONTACT: Requests for additional information or specific questions related to collection activities should be directed to Kerry Kehoe, Federal Consistency Specialist, 1305 East-West Highway, 10th Floor, Silver Spring, MD 20910, 240-560-8518, Kerry.Kehoe@noaa.gov.

SUPPLEMENTARY INFORMATION:

I. Abstract

This request is for the extension of the currently approved information collection. No changes have been made to the collection requirements. NOAA's regulations at 15 CFR part 970 govern the issuing and monitoring of exploration and production licenses under the Deep Seabed Hard Mineral Resources Act. The NOAA Office for Coastal Management is responsible for approving and administering licenses. Any persons seeking a license must submit certain information that allows NOAA to ensure the applicant meets the standards of the Act. Licensees are required to conduct monitoring and make reports, and they may request revisions, transfers, or extensions of licenses. Information required for the issuance and extension of licenses is provided to fulfill statutory requirements to ensure that license applicants have identified areas of interest for deep seabed hard mineral exploration and production; developed plans for those activities; have the financial resources available to conduct proposed activity; and have considered the effects of the activity on the natural and human environment. This information is used to determine whether licenses should be granted or extended.

Exploration licenses and commercial recovery permits under the Deep Seabed Hard Mineral Resources Act are only for activities by U.S. citizens in international waters. No license or permit applications have been received since the early 1980s, and none are expected during this collection period. Two exploration licenses issued in the early 1980s are held by Lockheed Martin Corporation. The licenses are subject to annual reporting requirements and extension requests every five years. No at-sea exploration is authorized under the licenses without further authorization from NOAA.

II. Method of Collection

Submission may be made by on paper or by electronic transmission.

III. Data

OMB Control Number: 0648-0145.

Form Number(s): None.

Type of Review: Extension of a current information collection without change.

Affected Public: Businesses.

Estimated Number of Respondents: 1.

Estimated Time per Response: Annual report: 20 hours; extension request: 250 hours.

Estimated Total Annual Burden Hours: 20 hours. For those years in which an extension request must be made the estimated total annual burden is 270 hours.

Estimated Total Annual Cost to Public: $200 in record keeping/reporting costs.

Respondent's Obligation: Required to maintain or apply for licenses.

Legal Authority: 30 U.S.C. 1441 et. seq.; 15 CFR part 970.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection requirement. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-10535 Filed 5-13-24; 8:45 am]

BILLING CODE 3510-08-P